DEPARTMENT OF JUSTICE

Drug Enforcement Administration

Importer of Controlled Substances; Notice of Registration

By Notice dated March 29, 2005 and published in the Federal Register on April 6, 2005, (70 FR 17472-17473), Penick Corporation, 158 Mount Olivet Avenue, Newark, New Jersey 07114, made application by renewal to the Drug Enforcement Administration (DEA) to be registered as an importer of the basic class of controlled substances listed in Schedule II.

Drug | Schedule
Coca Leaves (9040) | II
Raw Opium (9600) | II
Poppy Straw (9650) | II
Concentrate of Poppy Straw (9670) | II

The company plans to import the listed controlled substances to manufacturer bulk controlled substances and non-controlled substance flavor extracts.

Following the Notice of Application publication on April 6, 2005, (70 FR 17472-17473), Penick Corporation, 158 Mount Olivet Avenue, Newark, New Jersey 07114, relocated its operations to 33 Industrial Park Road, Pennsville, New Jersey 08070 on May 18, 2005. DEA conducted a full investigation and inspection of the company's security which was found to be in compliance with all required regulations.

One comment was received; however, the comment was outside of the required 60-day comment and objection period.

DEA has considered the factors in 21 U.S.C. 823(a) and 952(a) and determined that the registration of Penick Corporation to import the basic class of controlled substances is consistent with the public interest and with United States obligations under international treaties, conventions, or protocols in effect on May 1, 1971, at this time. DEA has investigated Penick Corporation to ensure that the company's registration is consistent with the public interest. The investigation has included inspection and testing of the company's physical security systems, verification of the company's compliance with state and local laws, and a review of the company's background and history. Therefore, pursuant to 21 U.S.C. 952(a) and 958(a), and in accordance with 21 CFR 1301.34, the above named company is granted registration as an importer of the basic class of controlled substances listed.

Dated: November 18, 2005.
Joseph T. Rannazzisi,
Acting Deputy Assistant Administrator, Office of Diversion Control, Drug Enforcement Administration.

[FR Doc. E5-6606 Filed 11-28-05; 8:45 am]

BILLING CODE 4410-09-P